DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Connecticut Department of Transportation

[Docket Number FRA-1999-6167]

Connecticut Department of Transportation (CDOT) seeks an extension of time for a previously granted temporary waiver of compliance with the Passenger Equipment Safety Standards, 49 CFR 238.235, which requires that by December 31, 1999, each power operated door that is partitioned from the passenger compartment shall be equipped with a manual override adjacent to that door. The previously granted extension expired on April 15, 2001. CDOT requests that a waiver extension be granted until October 31, 2001, for ten passenger coaches equipped with power operated side doors outside the passenger compartment. CDOT has stated that the parts needed to equip the ten cars were not received from the manufacturer until April 19, 2001. FRA has conditionally extended the time period to equip the cars until October 31, 2001. FRA has, however, reserved the right to withdraw such approval upon receipt by FRA of public comment raising substantial issues of safety.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6167) and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's Web site at http://dms.dot.gov.

Issued in Washington, D.C. on May 29, 2001.
Grady C. Cothen, Jr.,
Deputy Associate Administrator for Safety Standards and Program Development.

[FR Doc. 01-13928 Filed 6-1-01; 8:45 am]

BILLING CODE 4910-06-P